DEPARTMENT OF THE INTERIOR

Bureau of Land Management

[CA-320-1610-DR; CA-350-1610-DR; CA-370-1610-DR]

Notice of Availability of Record of Decision for the Sage Steppe Ecosystem Restoration Strategy for the Alturas, Eagle Lake, and Surprise Field Offices

AGENCY: Bureau of Land Management.

ACTION: Notice of availability.

SUMMARY: In accordance with the National Environmental Policy Act (NEPA), the Federal Land Policy and Management Act (FLPMA), and the Bureau of Land Management (BLM) policies, the BLM announces the availability of the Records of Decision (RODs) for the Sage Steppe Ecosystem Restoration Strategy for the Alturas, Eagle Lake, and Surprise Field Offices. The RODs constitute the final decisions of the BLM and make the Sage Steppe Ecosystem Restoration Strategy effective immediately.

ADDRESSES: Copies of the RODs are available at the following locations: Alturas Field Office, Bureau of Land Management, 708 West 12th Street, Alturas, CA 96101; Eagle Lake Field Office 2950 Riverside Drive, Susanville, CA 96130; and Surprise Field Office, 602 Cressler Street, Cedarville, CA 96104. The RODs are also available on the internet at http://www.blm.gov/ca/st/en/prog/planning.html.

FOR FURTHER INFORMATION CONTACT: For further information contact Jeff Fontana, Public Affairs Officer, Bureau of Land Management, 2950 Riverside Dr., Susanville, CA 96130, telephone (530) 257-0456.

SUPPLEMENTARY INFORMATION: One of the most significant factors affecting the health, diversity and productivity of public lands in the region is the rapid expansion and encroachment of western juniper into the sagebrush steppe ecosystem. Western juniper has significantly increased in density and distribution since the late 1800's and if left unchecked can have significant impacts on soil resources, plant community structure and composition, water and nutrient cycles, and wildlife habitat. In order to address this ecosystem management issue across jurisdictional boundaries, the BLM joined forces with the United States Forest Service (USFS) and county governments to develop a comprehensive vegetation management strategy across a planning area that encompasses 6.5 million acres of public and private land. The strategy broadly identifies restoration methods and provides guidelines for implementing site specific treatments over a 50-year timeframe. The Modoc National Forest is issuing a companion Record of Decision (ROD) and both agencies will work closely with county governments to implement the strategy in a cooperative and coordinated manner. BLM officially initiated the planning process for the Draft Sage Steppe EIS with the publishing of the Notice of Intent (NOI) to prepare an EIS in the Federal Register on July 18, 2005. A Public Scoping Notice was distributed following the NOI and a public notice was published in the Modoc Record on July 28, 2005. The Notice of Availability of the DEIS was published in the Federal Register on August 31, 2007. During the comment period nine public meetings, presentations and field trips were offered and 23 comment letters were received. Based upon public comments on the DEIS an additional alternative was added to the FEIS. This new alternative was identified by the agencies as the Preferred Alternative, as it best meets the purpose and need for the project. The Notice of Availability of the Final EIS was published in the Federal Register on May 9, 2008.

Any party adversely affected by the BLM's decision(s) to implement the Sage Steppe Ecosystem Restoration Strategy may appeal within 30 days of publication of this Notice of Availability. The appeal must be filed with the field office manager whose decision is being appealed at the above listed addresses. Please consult 43 CFR, part 4 for further information on the IBLA appeal process.

Dayne Barron,
Field Manager.

[FR Doc. E8-30074 Filed 12-17-08; 8:45 am]

BILLING CODE 4310-40-P